COMMISSION ON CIVIL RIGHTS

Agenda and Notice of Public Meeting of the Wyoming Advisory Committee

Notice is hereby given, pursuant to the provisions of the rules and regulations of the U.S. Commission on Civil Rights (Commission), and the regulations of the Federal Advisory Committee Act (FACA), that a meeting of the Wyoming Advisory Committee will convene at 10 a.m. and adjourn at 12 p.m. (MST) on Saturday, February 27, 2010, at Holland Hart LLP, 2515 Warren Avenue, Suite 450, Cheyenne, WY 82003.

The purpose of the meeting is to brief the committee on civil rights issues and the state of civil rights in Wyoming. Briefings will be conducted by a professor in the education department of the University of Wyoming and the president of the NAACP-Cheyenne Chapter. The committee will discuss recent Commission and regional activities, and plan future activities.

Members of the public are entitled to submit written comments; the comments must be received in the Rocky Mountain Regional Office by March 27, 2010. The address is 1961 Stout Street, Suite 240, Denver, CO 80294. Persons wishing to email their comments, or to present their comments verbally at the meeting, or who desire additional information should contact the regional office at (303) 866-1040 or ebohor@usccr.gov.

Hearing-impaired persons who will attend the meeting and require the services of a sign language interpreter should contact the Regional Office at least ten (10) working days before the scheduled date of the meeting.

Records generated from this meeting may be inspected and reproduced at the Rocky Mountain Regional Office, as they become available, both before and after the meeting. Persons interested in the work of this advisory committee are advised to go to the Commission's Web site, http://www.usccr.gov, or to contact the Rocky Mountain Regional Office at the above email or street address.

The meeting will be conducted pursuant to the provisions of the rules and regulations of the Commission and FACA.

Dated at Washington, DC, February 2, 2010.
Peter Minarik,
Acting Chief, Regional Programs Coordination Unit.

[FR Doc. 2010-2526 Filed 2-4-10; 8:45 am]

BILLING CODE 6335-02-P